DEPARTMENT OF DEFENSE

Department of the Navy

Notice of Performance Review Board Membership

AGENCY: Department of the Navy, DoD.

ACTION: Notice.

SUMMARY: The Department of Navy (DON) announces the appointment of members to the DON's numerous Senior Executive Service (SES) Performance Review Boards (PRBs).

FOR FURTHER INFORMATION CONTACT: Leslie Joseph, Director, Executive Management Program Office, Office of Civilian Human Resources at 202-685-6186.

SUPPLEMENTARY INFORMATION: The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among the individuals listed below:

Mr. Mark Andress

Mr. Todd Balazs

Mr. Claude Baldwin

Ms. Jennifer Balisle

Mr. James Balocki

Mr. Bill Bonwit

Ms. Diane Boyle

Ms. Anne Brennan

Mr. Anthony Cifone

MajGen Craig Crenshaw

Dr. Bruce Danly

RDML Moises DelToro, III

Ms. Catherine Donovan

RDML James Downey

Ms. Steffanie Easter

Ms. Donjette Gilmore

Mr. John Graveen

Mr. Robert Hogue

Mr. Mark Honecker

Ms. Joan Johnson

Mr. Dewey Jordan

Ms. Jennifer LaTorre

Mr. Joe Ludovici

Mr. Michael Madden

Dr. Michael Malanoski

Mr. Donald McCormack, Jr.

Mr. James Meade

Mr. Chris Miller

ADM Michael Moran

RADM Stuart Munsch

Mr. Daniel Nega

Mr. Garry Newton

Dr. Michael Pollock

Ms. Jane Rathbun

Mr. Gary Ressing

Mr. Andrew Richardson

Mr. Thomas Rudowsky

Mr. Mark Russ

Ms. Anne Sandel

Mr. Todd Schafer

Mr. Steven Schulze

Ms. Cindy Shaver

Mr. James Smerchansky

Ms. Sharon Smoot

Mr. Frederick Stefany

Ms. Allison Stiller

Mr. Patrick Sullivan

Ms. Leslie Taylor

Mr. Tony TorresRamos

Mr. Stephen Trautman

Dr. David Walker

Mr. William Williford

VADM Johnny Wolfe, Jr.

Ms. B. Lynn Wright

RDML Michael Zarkowski

Mr. Jeffrey Bearor

Mr. Robert Woods

Dated: October 18, 2018.
Meredith Steingold Werner,
Lieutenant Commander, Judge Advocate General's Corps, U.S. Navy, Federal Register Liaison Officer.

[FR Doc. 2018-23088 Filed 10-22-18; 8:45 am]

BILLING CODE 3810-FF-P